DEPARTMENT OF LABOR

Mine Safety and Health Administration

Petitions for Modification

The following parties have filed petitions to modify the application of existing safety standards under section 101(c) of the Federal Mine Safety and Health Act of 1977.

1. Webster County Coal, LLC

[Docket No. M-2005-013-C]

Webster County Coal, LLC, 1586 Balls Hill Road, Nebo, Kentucky 42441 has filed a petition to modify the application of 30 CFR 75.1101-1(b) (Deluge-type water spray systems) to its Dotiki Mine (MSHA I.D. No. 15-02132) located in Hopkins County, Kentucky. The petitioner requests a modification of the existing standard to eliminate the use of blow-off dust covers for the nozzles of a deluge-type water spray system. The petitioner proposes to train a person in the testing procedures specific to the deluge-type water spray fire suppression systems used at each belt drive to once a week conduct a visual examination of each deluge-type water spray fire suppression system; a functional test of the deluge-type water spray fire suppression systems by actuating the system and observing its performance; and finally, to record the results of the examination and functional test in a book maintained on the surface that would be made available to the authorized representative of the Secretary. The results of the examination and functional test will be retained at the mine for one year. The petitioner states that if any malfunction or clogged nozzle is detected as a result of the weekly examination or functional test, corrections will be made immediately. The petitioner further states that the procedure used to perform the functional test will be posted at or near each belt drive that uses a deluge-type water spray fire suppression system. The petitioner asserts that the proposed alternative method would provide at least the same measure of protection as the existing standard.

2. Peabody Energy

[Docket No. M-2005-014-C]

Peabody Energy, 202 Laidley Tower, P.O. Box 1233, Charleston, West Virginia 25324-1233 has filed a petition to modify the application of 30 CFR 75.901 (Protection of low- and medium-voltage three-phase circuits used underground) to its Highland Mine (MSHA I.D. No. 15-02709) located in Union County, Kentucky. The petitioner proposes to use a 480-volt, three-phase diesel-powered electric generator to move equipment in the mine. The petitioner has listed in this petition for modification specific procedures that would be followed when the proposed alternative method is implemented. The petitioner asserts that the proposed alternative method would provide at least the same measure of protection as the existing standard.

3. Kennecott Energy Company

[Docket No. M-2005-015-C]

Kennecott Energy Company, 505 South Gillette Avenue, P.O. Box 3009, Gillette, Wyoming 82717-3009 has filed a petition to modify the application of 30 CFR 77.802 (Protection of high-voltage circuits; neutral grounding resistors; disconnecting devices) to its Cordero-Rojo Mine (MSHA I.D. No. 48-00992) and Jacobs Ranch Mine (I.D. No. 48-00997) located in Campbell County, Wyoming; Antelope Mine (I.D. No. 48-01337) located in Converse County, Wyoming; Spring Creek Mine (I.D. No. 24-01457) located in Bighorn County, Montana; and Colowyo Coal Mine (I.D. No. 05-02962) located in Moffat County, Colorado. The petitioner requests a modification of the existing standard to permit an alternative method of compliance for continued use of high-voltage diesel-powered electric generators. The petitioner proposes to use a high-voltage portable diesel-powered electric generator to move and/or operate electrical equipment for temporary non-production functions such as, but not limited to, shovel relocations, maintenance outages, building services during power outages for the safety of the miners and the mine. The petitioner states that when using the generator to power mobile equipment, only one piece of equipment will be powered, and in certain conditions, the generator may be used to supply power to pump substations. The petitioner has listed in this petition for modification specific terms and conditions that would be followed when the proposed alternative method is implemented. The petitioner asserts that the proposed alternative method would provide at least the same measure of protection as the existing standard.

4. Kennecott Energy Company

[Docket No. M-2005-016-C]

Kennecott Energy Company, 505 South Gillette Avenue, P.O. Box 3009, Gillette, Wyoming 82717-3009 has filed a petition to modify the application of 30 CFR 77.811 (Movement of portable substations and transformers) to its Cordero-Rojo Mine (MSHA I.D. No. 48-00992) and Jacobs Ranch Mine (I.D. No. 48-00997) located in Campbell County, Wyoming; Antelope Mine (I.D. No. 48-01337) located in Converse County, Wyoming; Spring Creek Mine (I.D. No. 24-01457) located in Bighorn County, Montana; and Colowyo Coal Mine (I.D. No. 05-02962) located in Moffat County, Colorado. The petitioner requests a modification of the existing standard to permit an alternative method of compliance for prohibiting movement of energized transformers that are a part of a diesel-powered electric generator. The petitioner proposes to use a portable high-voltage diesel-powered electric generator to move and/or operate electrical equipment for temporary non-production functions such as, but not limited to, shovel relocations, maintenance outages, building services during power outages for the safety of the miners and the mine. The petitioner states that when using the generator to power mobile equipment, only one piece of equipment will be powered, and in certain conditions, the generator may be used to supply power to pump substations. The petitioner also states that the transformers are an integral part of, and trailer mounted with, the portable diesel-powered electric generator and can be safely moved as a part of the system. The petitioner has listed in this petition for modification specific terms and conditions that would be followed when the proposed alternative method is implemented. The petitioner asserts that the proposed alternative method would provide at least the same measure of protection as the existing standard.

5. Ohio Valley Coal Company (The)

[Docket No. M-2005-017-C]

The Ohio Valley Coal Company, 56854 Pleasant Ridge Road, Alledonia, Ohio 43902 has filed a petition to modify the application of 30 CFR 75.350(b)(5) (Belt air course ventilation) to its Powhatan No. 6 Mine (MSHA I.D. No. 33-01159) located in Belmont County, Ohio. Due to deteriorating roof conditions in the Main North which extends from the junction of A-West Submain to the Portal of Hope, delivery and installation of supplemental supports will expose miners to hazardous conditions. The petitioner proposes to mine and/or rehabilitate a set of entries parallel to the existing Main North entries to reduce the miner's exposure to injury by using the specific terms and conditions listed in this petition for modification. The petitioner states that the majority of the development will consist of rehabilitation of existing entries and crosscuts, and some extraction of coal in areas between the existing gate sections. The petitioner asserts that application of the existing standard would result in a diminution of safety to the miners and the proposed alternative method would provide at least the same measure of protection as the existing standard.

6. Ohio Valley Coal Company (The)

[Docket No. M-2005-018-C]

The Ohio Valley Coal Company, 56854 Pleasant Ridge Road, Alledonia, Ohio 43902 has filed a petition to modify the application of 30 CFR 75.350(b)(6) (Belt air course ventilation) to its Powhatan No. 6 Mine (MSHA I.D. No. 33-01159) located in Belmont County, Ohio. Due to deteriorating roof conditions in the Main North which extends from the junction of A-West Submain to the Portal of Hope, delivery and installation of supplemental supports will expose miners to hazardous conditions. The petitioner proposes to mine and/or rehabilitate a set of entries parallel to the existing Main North entries to reduce the miner's exposure to injury by using the specific terms and conditions listed in this petition for modification. The petitioner states that the majority of the development will consist of rehabilitation of existing entries and crosscuts, and some extraction of coal in areas between the existing gate sections. The petitioner asserts that application of the existing standard would result in a diminution of safety to the miners and the proposed alternative method would provide at least the same measure of protection as the existing standard.

Request for Comments

Persons interested in these petitions are encouraged to submit comments via Federal eRulemaking Portal: http://www.regulations.gov; e-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before April 28, 2005. Copies of these petitions are available for inspection at that address.

Dated at Arlington, Virginia this 22nd day of March 2005.
Rebecca J. Smith,
Acting Director, Office of Standards, Regulations, and Variances.

[FR Doc. 05-6065 Filed 3-28-05; 8:45 am]

BILLING CODE 4510-43-P